INTERNATIONAL TRADE COMMISSION

[USITC SE-02-003]

Sunshine Act Meeting

AGENCY HOLDING THE MEETING: United States International Trade Commission.

TIME AND DATE: February 8, 2002 at 11 a.m.

PLACE: Room 101, 500 E Street SW., Washington, DC 20436 Telephone: (202) 205-2000.

STATUS: Open to the public.

MATTERS TO BE CONSIDERED: 1. Agenda for future meeting: None.

2. Minutes

3. Ratification List

4. Inv. No. 731-TA-920 (Final) (Certain Welded Large Diameter Line Pipe from Mexico)—briefing and vote. (The Commission is currently scheduled to transmit its determination and Commissioners' opinions to the Secretary of Commerce on February 19, 2002.)

5. Outstanding action jackets: None

In accordance with Commission policy, subject matter listed above, not disposed of at the scheduled meeting, may be carried over to the agenda of the following meeting. Earlier announcement of this meeting was not possible.

By order of the Commission.
Issued: January 22, 2002.
Marilyn R. Abbott,
Acting Secretary.

[FR Doc. 02-1972 Filed 1-23-02; 11:57 am]

BILLING CODE 7020-02-P